ENVIRONMENTAL PROTECTION AGENCY

40 CFR Part 300

[EPA-HQ-SFUND-1990-0010, EPA-HQ-SFUND-1994-0001, EPA-HQ-SFUND-2002-0008, EPA-HQ-SFUND-2003-0010, EPA-HQ-OLEM-2021-0797, EPA-HQ-OLEM-2021-0798, EPA-HQ-OLEM-2021-0815, EPA-HQ-OLEM-2021-0922, EPA-HQ-OLEM-2021-0934, EPA-HQ-OLEM-2022-0111; FRL-10018-01-OLEM]

Deletion From the National Priorities List

AGENCY: Environmental Protection Agency (EPA).

ACTION: Final rule.

SUMMARY: The Environmental Protection Agency (EPA) announces the deletion of four sites and the partial deletion of six sites from the Superfund National Priorities List (NPL). The NPL, created under the Comprehensive Environmental Response, Compensation, and Liability Act (CERCLA) of 1980, as amended, is an appendix of the National Oil and Hazardous Substances Pollution Contingency Plan (NCP). The EPA and the states, through their designated state agencies, have determined that all appropriate response actions under CERCLA, other than operation and maintenance, monitoring, and five-year reviews, where applicable, have been completed. However, this deletion does not preclude future actions under Superfund.

DATES: The document is effective on August 17, 2022.

ADDRESSES: Docket: EPA has established a docket for this action under the Docket Identification included in Table 1 in the SUPPLEMENTARY INFORMATION section of this document. All documents in the docket are listed on the https://www.regulations.gov website. The Final Close-Out Report (FCOR, for a full site deletion) or the Partial Deletion Justification (PDJ, for a partial site deletion) is the primary document which summarizes site information to support the deletion. It is typically written for a broad, non-technical audience and this document is included in the deletion docket for each of the 10 sites in this rulemaking. Although listed in the index, some information is not publicly available, i.e., Confidential Business Information or other information whose disclosure is restricted by statute. Certain other material, such as copyrighted material, is not placed on the internet and will be publicly available only in hard copy form. Docket materials are available through https://www.regulations.gov or at the corresponding Regional Records Centers. Locations, addresses, and phone numbers-of the Regional Records Center follows.

• Region 1 (CT, ME, MA, NH, RI, VT), U.S. EPA New England, EMS Records and Information Center, 5 Post Office Square, Suite 100, Boston, MA 02109-3912; 617/918-1440.

• Region 3 (DE, DC, MD, PA, VA, WV), U.S. EPA, Library, 1650 Arch Street, Mail code 3MD13, Philadelphia, PA 19103; 215/814-3024.

• Region 4 (AL, FL, GA, KY, MS, NC, SC, TN), U.S. EPA, 61 Forsyth Street SW, Mail code 9T25, Atlanta, GA 30303; 404/562-8637.

• Region 5 (IL, IN, MI, MN, OH, WI), U.S. EPA Superfund Division Records Manager, Mail code SRC-7J, Metcalfe Federal Building, 7th Floor South, 77 West Jackson Boulevard, Chicago, IL 60604; 312/886-4465.

• Region 7 (IA, KS, MO, NE), U.S. EPA, 11201 Renner Blvd., Mail code SUPRSTAR, Lenexa, KS 66219; 913/551-7956.

• Region 8 (CO, MT, ND, SD, UT, WY), U.S. EPA, 1595 Wynkoop Street, Mail code Records Center, Denver, CO 80202-1129; 303/312-7273.

• EPA Headquarters Docket Center Reading Room (deletion dockets for all states), William Jefferson Clinton (WJC) West Building, Room 3334, 1301 Constitution Avenue NW, Washington, DC 20004, (202) 566-1744.

EPA staff listed below in the FOR FURTHER INFORMATION CONTACT section may assist the public in answering inquiries about deleted sites and accessing deletion support documentation, determining whether there are additional physical deletion dockets available, or if COVID restrictions affect deletion docket access.

The EPA continues to carefully and continuously monitor information from the Centers for Disease Control and Prevention (CDC), local area health departments, and our federal partners so that we can respond rapidly as conditions change regarding COVID.

FOR FURTHER INFORMATION CONTACT:

• Robert Lim, U.S. EPA Region 1 (CT, ME, MA, NH, RI, VT), U.S. EPA, lim.robert@epa.gov, 617/918-1392.

• Andrew Hass, U.S. EPA Region 3 (DE, DC, MD, PA, VA, WV), hass.andrew@epa.gov, 215/814-2049.

• Leigh Lattimore, U.S. EPA Region 4 (AL, FL, GA, KY, MS, NC, SC, TN), lattimore.leigh@epa.gov, 404/562-8768.

• Karen Cibulskis, U.S. EPA Region 5 (IL, IN, MI, MN, OH, WI), cibulskis.karen@epa.gov, 312/886-1843.

• David Wennerstrom, U.S. EPA Region 7 (IA, KS, MO, NE), wennerstrom.david@epa.gov, 913/551-7996.

• Linda Kiefer, U.S. EPA Region 8 (CO, MT, ND, SD, UT, WY), kiefer.linda@epa.gov, 303/312-6689.

• Charles Sands, U.S. EPA Headquarters, sands.charles@epa.gov, 202-566-1142.

SUPPLEMENTARY INFORMATION: The NPL, created under section 105 of CERCLA, as amended, is an appendix of the NCP. The NCP establishes the criteria that EPA uses to delete sites from the NPL. In accordance with 40 CFR 300.425(e), sites may be deleted from the NPL where no further response is appropriate. Partial deletion of sites is in accordance with 40 CFR 300.425(e) and are consistent with the Notice of Policy Change: Partial Deletion of Sites Listed on the National Priorities List, 60 FR 55466, (November 1, 1995). The sites to be deleted are listed in Table 1, including docket information containing reference documents with the rationale and data principally relied upon by the EPA to determine that the Superfund response is complete. The NCP permits activities to occur at a deleted site, or that media or parcel of a partially deleted site, including operation and maintenance of the remedy, monitoring, and five-year reviews. These activities for the site are entered in Table 1 in this SUPPLEMENTARY INFORMATION section, if applicable, under Footnote such that; 1 = site has continued operation and maintenance of the remedy, 2 = site receives continued monitoring, and 3 = site five-year reviews are conducted. As described in 40 CFR 300.425(e)(3) of the NCP, a site or portion of a site deleted from the NPL remains eligible for Fund-financed remedial action if future conditions warrant such actions.

Table 1
Site name | City/county, state | Type | Docket No. | Footnote
McKin Co | Gray, ME | Full | EPA-HQ-OLEM-2021-0922 | 1, 2, 3
Tybouts Corner Landfill | New Castle County, DE | Partial | EPA-HQ-OLEM-2021-0797 | 1, 3
C&R Battery Co., Inc | Chesterfield County, VA | Full | EPA-HQ-OLEM-2021-0798 | 1, 3
Chem-Solv, Inc | Cheswold, DE | Full | EPA-HQ-OLEM-2021-0934 | 1, 3
Koppers Co., Inc. (Charleston Plant) | Charleston, SC | Partial | EPA-HQ-SFUND-1994-0001 | 1, 3
Brantley Landfill | Island, KY | Full | EPA-HQ-OLEM-2022-0111 | 1, 2, 3
Summit National | Deerfield Township, OH | Partial | EPA-HQ-OLEM-2021-0815 | 1, 3
Himco Dump | Elkhart, IN | Partial | EPA-HQ-SFUND-1990-0010 | 1, 3
Omaha Lead | Omaha, NE | Partial | EPA-HQ-SFUND-2003-0010 | 1, 3
Libby Asbestos | Libby, MT | Partial | EPA-HQ-SFUND-2002-0008 | 1, 3

Information concerning the sites to be deleted and partially deleted from the NPL, the proposed rule for the deletion and partial deletion of the sites, and information on receipt of public comment(s) and preparation of a Responsiveness Summary (if applicable) are included in Table 2 as follows:

Table 2
Site name | Date, proposed rule | FR citation | Public comment | Responsiveness summary | Full site deletion (full) or media/parcels/description for partial deletion
McKin Co | 3/31/2022 | 87 FR 18761 | Yes | Yes | Full.
Tybouts Corner Landfill | 3/31/2022 | 87 FR 18761 | Yes | Yes | 2 parcels soil and groundwater approx. 78 acres.
C&R Battery Co., Inc | 3/31/2022 | 87 FR 18761 | Yes | Yes | Full.
Chem-Solv, Inc | 3/31/2022 | 87 FR 18761 | Yes | Yes | Full.
Koppers Co., Inc. (Charleston Plant) | 3/31/2022 | 87 FR 18761 | Yes | Yes | 98 acres of soils, sediments and tidal marsh.
Brantley Landfill | 3/31/2022 | 87 FR 18761 | Yes | Yes | Full.
Summit National | 3/31/2022 | 87 FR 18761 | Yes | Yes | Land/soil portion of landfill, adjacent removal areas, and 45 down gradient parcels.
Himco Dump | 3/31/2022 | 87 FR 18761 | Yes | Yes | 11.5-acre land/soil portion of the site plus adjacent soils.
Omaha Lead | 3/31/2022 | 87 FR 18761 | Yes | Yes | 19 residential parcels.
Libby Asbestos | 3/31/2022 | 87 FR 18761 | Yes | Yes | OU 6 including 42 miles of railroad right of way between and in the towns of Libby and Troy, MT.

For the sites proposed for deletion, the closing date for comments in the proposed rule was May 2, 2022. The EPA received two public comments which addressed all ten sites included for deletion or partial deletion-and two additional public comments on the McKin Co. site in this final rule. EPA placed the comments in the dockets specified in Table 1, on https://www.regulations.gov, and in the appropriate Regional Records Center listed in the ADDRESSES section. One public comment-addressing all ten sites was supportive of the proposed deletion and of EPA actions. One public comment addressing all ten sites was an adverse comment. The commentor requested additional information present in the deletion docket be specified in the deletion rules; EPA provide a schedule to return contaminated groundwater to beneficial reuse; expressed concerns about institutional controls on land and groundwater use; and expressed concerns whether EPA met requirements of the Information Quality Act. EPA determined that it is appropriate to proceed with the deletion because all response actions at the sites are appropriate and complete, EPA complied with program and Agency requirements, guidance and the NCP. The criteria for deletion have been met. A Responsiveness Summary was prepared and placed in each site deletion docket on https://www.regulations.gov, and in the appropriate Regional Records Centers listed in the ADDRESSES section.

The McKin Co. site also received two adverse comments. One commentor did not agree with EPA's decision to delete the site from the NPL, concerned that possible remedial work still needs to be done. The second commentor raised concerns about future or planned development of the former McKin Co. property and if contaminants could be disturbed. EPA has completed all remedial work at the McKin Co. site and land use controls on the site will prevent development or disturbance of any contaminants. EPA has determined that it is appropriate to proceed with the deletion because all response actions at the site are complete and the criteria for deletion have been met. A Responsiveness Summary was prepared and placed in the docket, EPA-HQ-OLEM-2021-0922, on https://www.regulations.gov, and in the Regional Records Center listed in the ADDRESSES section.

For all other sites not specified above, no adverse comments were received.

EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous substances, Hazardous waste, Intergovernmental relations, Natural resources, Oil pollution, Penalties, Reporting and recordkeeping requirements, Superfund, Water pollution control, Water supply.

Larry Douchand,
Office Director, Office of Superfund Remediation and Technology Innovation.

For reasons set out in the preamble, the EPA amends 40 CFR part 300 as follows:

PART 300—NATIONAL OIL AND HAZARDOUS SUBSTANCES POLLUTION CONTINGENCY PLAN

1. The authority citation for part 300 continues to read as follows:

Authority: 33 U.S.C. 1251 et seq.; 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

2. In appendix B to part 300 amend table 1 by:

a. Removing the entry for “DE, Chem-Solv, Inc., Cheswold”;

b. Revising the entry for “DE, Tybouts Corner Landfill, New Castle County”;

c. Revising the entry for “IN, Himco Dump, Elkhart”;

d. Removing the entry for “KY, Brantley Landfill, Island”;

e. Removing the entry for “ME, McKin Co., and Gray”;

f. Revising the entries for “OH, Summit National, Deerfield Township” and “SC, Koppers Co., Inc (Charleston Plant), Charleston”; and

g. Removing the entry for “VA, C&R Battery Co., Inc, Chesterfield County”.

The revisions read as follows:

Appendix B to Part 300—National Priorities List

Table 1—General Superfund Section
State | Site name | City/county | Notes (a)
DE | Tybouts Corner Landfill | New Castle County | P
* * * * * * *
IN | Himco Dump | Elkhart | P
* * * * * * *
OH | Summit National | Deerfield Township | P
* * * * * * *
SC | Koppers Co., Inc (Charleston Plant) | Charleston | P
* P = Sites with partial deletion(s).

[FR Doc. 2022-17480 Filed 8-16-22; 8:45 am]

BILLING CODE 6560-50-P